SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 28, 2009.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street, 8th Floor, Washington, DC 20416.

FOR FURTHER INFORMATION CONTACT: Sandra Johnston, Program Analyst, Office of Financial Assistance, 202-205-7528 sandra.johnston@sba.gov; Curtis B. Rich, Management Analyst, 202-205-7030 curtis.rich@sba.gov.

SUPPLEMENTARY INFORMATION: SBA regulations requires that we determine that a participating Certified Development Company's, Non-Bank Lender Institutions, or Micro lenders management, ownership, etc., is of “good character”. To do so requires the information requested on the Form 1081. This form also provides data used to determine the qualifications and capabilities of the lenders key personnel.

Title: Statement of Personal History.

Description of Respondents: Small Business Lending Companies.

Form Number: SBA Form 1081.

Annual Responses: 243.

Annual Burden: 122.

ADDRESSES: Send all comments regarding whether this information collection is necessary for the proper performance of the function of the agency, whether the burden estimates are accurate, and if there are ways to minimize the estimated burden and enhance the quality of the collection, to Brenda Washington, Senior Program Analyst, Office of HUBZone Programs, Small Business Administration, 409 3rd Street, 8th Floor, Washington, DC 20416.

FOR FURTHER INFORMATION CONTACT: Brenda Washington, Senior Program Analyst, Office of HUBZone Programs, 202-205-7663 brenda.washington@sba.gov; Curtis B. Rich, Management Analyst, 202-205-7030 curtis.rich@sba.gov.

SUPPLEMENTARY INFORMATION: The requested information regarding updates to the financial information and employment levels supplied at the time of initial application for HUBZone certification are a necessary element for gauging the HUBZone Program's ability to promote capital investments and job creation in distressed communities.

Title: SBA HUBZone Update data form.

Description of Respondents: Small Business Concerns.

Form Number: SBA Form 2298.

Annual Responses: 3,500.

Annual Burden: 1,750.

ADDRESSES: Send all comments regarding whether this information collection is necessary for the proper performance of the function of the agency, whether the burden estimates are accurate, and if there are ways to minimize the estimated burden and enhance the quality of the collection, to Cynthia Pitts, Director, Office of Disaster Administrative Service, Small Business Administration, 409 3rd Street, 6th Floor, Washington, DC 20416.

FOR FURTHER INFORMATION CONTACT: Cynthia Pitts, Director, Office of Disaster Administrative Service, 202-205-7570 cynthia.pitts@sba.gov; Curtis B. Rich, Management Analyst, 202-205-7030 curtis.rich@sba.gov.

SUPPLEMENTARY INFORMATION: SBA is required to survey affected disaster areas within a state upon request by the Governor of that state to determine if there is sufficient change to warrant a disaster declaration.

Jacqueline White,
Chief, Administrative Information Branch.

[FR Doc. E9-25678 Filed 10-23-09; 8:45 am]

BILLING CODE 8025-01-P